DEPARTMENT OF ENERGY

Federal Energy Regulatory Commission

Combined Notice of Filings #1

Take notice that the Commission received the following electric rate filings:

Docket Numbers: ER10-2670-009; ER10-2669-009; ER14-1219-002; ER10-2253-013; ER10-3319-017; ER10-2674-009; ER10-2627-010; ER10-2629-011; ER10-1546-011; ER10-1547-009; ER14-1699-002; ER10-2636-010; ER10-1974-016; ER10-1550-010; ER10-1975-017; ER11-2424-013; ER10-2677-009; ER10-2678-008; ER10-2638-008.

Applicants: ANP Blackstone Energy Company, LLC, ANP Bellingham Energy Company, LLC, Armstrong Power, LLC, Astoria Energy LLC, Astoria Energy II LLC, Calumet Energy Team, LLC, FirstLight Hydro Generating Company, FirstLight Power Resources Management, LLC, GDF SUEZ Energy Marketing NA, Inc., Hopewell Cogeneration Ltd Partnership, Milford Power, LLC, Mt. Tom Generating Company, LLC, Northeast Energy Associates, A Limited Partnership, Northeastern Power Company, North Jersey Energy Associates, a Limited Partnership., Pinetree Power-Tamworth, Inc., Pleasants Energy, LLC, Troy Energy, LLC, Waterbury Generation, LLC.

Description: Notice of Change in Status of the GDF SUEZ MBR Sellers.

Filed Date: 8/31/15.

Accession Number: 20150831-5428.

Comments Due: 5 p.m. ET 9/21/15.

Docket Numbers: ER15-2583-000.

Applicants: California Independent System Operator Corporation.

Description: Section 205(d) Rate Filing: 2015-08-31 MEEA between CAISO and WAPA-Sierra Nevada Region to be effective 11/1/2015.

Filed Date: 8/31/15.

Accession Number: 20150831-5388.

Comments Due: 5 p.m. ET 9/21/15.

Docket Numbers: ER15-2584-000.

Applicants: New England Power Pool Participants Committee.

Description: Section 205(d) Rate Filing: Aug 31 2015 Membership Filing to be effective 9/1/2015.

Filed Date: 8/31/15.

Accession Number: 20150831-5391.

Comments Due: 5 p.m. ET 9/21/15.

Docket Numbers: ER15-2585-000.

Applicants: Oklahoma Gas and Electric Company.

Description: Tariff Cancellation: Cancellation of Cost Based Formula Tariff to be effective 9/1/2015.

Filed Date: 8/31/15.

Accession Number: 20150831-5402.

Comments Due: 5 p.m. ET 9/21/15.

Docket Numbers: ER15-2586-000.

Applicants: Southern California Edison Company.

Description: Section 205(d) Rate Filing: First Amended GIA & DSA Eco Services Operations LLC—Rhodia Project to be effective 9/2/2015.

Filed Date: 9/1/15.

Accession Number: 20150901-5011.

Comments Due: 5 p.m. ET 9/22/15.

Docket Numbers: ER15-2587-000.

Applicants: DR Power, LLC.

Description: Notice of cancellation of market based tariff of DR Power, LLC under ER15-2587.

Filed Date: 8/31/15.

Accession Number: 20150831-5435.

Comments Due: 5 p.m. ET 9/21/15.

Take notice that the Commission received the following qualifying facility filings:

Docket Numbers: QF15-997-000.

Applicants: Golden Renewable Energy, LLC.

Description: Form 556 of Golden Renewable Energy, LLC.

Filed Date: 8/31/15.

Accession Number: 20150831-5432.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 1, 2015.
Nathaniel J. Davis, Sr.,
Deputy Secretary.

[FR Doc. 2015-22508 Filed 9-4-15; 8:45 am]

BILLING CODE 6717-01-P